DEPARTMENT OF HEALTH AND HUMAN SERVICES

National Institutes of Health

Division of Program Coordination, Planning, and Strategic Initiatives, Office of the Director Notice of Proposed Reorganization

AGENCY: National Institutes of Health, HHS.

ACTION: Notice.

SUMMARY: The Division of Program Coordination, Planning, and Strategic Initiatives (DPCPSI) in the Office of the Director, National Institutes of Health (NIH) is seeking public comment regarding its proposal to transfer the All of Us (ALL) Research Program and Environmental influences on Child Health Outcomes (ECHO) Program from the Immediate Office of the NIH Director to DPCPSI in the Office of the Director, NIH. The program offices in DPCPSI share a common mission of identifying emerging scientific opportunities, rising public health challenges, or scientific knowledge gaps that deserve special emphasis. The proposed reorganization would align the important offices with offices having similar NIH-wide functions.

DATES: Any interested person may file written comments by sending an email to DPCPSIreorgcomments@nih.gov by 11:59 p.m. ET on June 14, 2024. The statement should include the individual's name, and when applicable, professional affiliation.

ADDRESSES: The following email address has been established for comments on the reorganization: DPCPSIreorgcomments@nih.gov.

FOR FURTHER INFORMATION CONTACT: Betina Orezzoli at DPCPSIreorgcomments@nih.gov or 301-402-9852.

SUPPLEMENTARY INFORMATION: This notice is pursuant to the NIH Reform Act of 2006 (42 U.S.C.281 (d)(4)), DPCPSI will launch public website information at https://dpcpsi.nih.gov/proposed-reorg-allofus-echo-transfer to further encourage public discussion of the proposal to reorganize. The public is encouraged to email DPCPSIreorgcomments@nih.gov for comments and questions.

Dated: May 3, 2024.
Lawrence A. Tabak,
Principal Deputy Director, National Institutes of Health.

[FR Doc. 2024-10133 Filed 5-8-24; 8:45 am]

BILLING CODE 4140-01-P